DEPARTMENT OF ENERGY

Federal Energy Regulatory Commission

Combined Notice of Filings #1

Take notice that the Commission received the following electric rate filings:

Docket Numbers: ER10-1790-013; ER10-2595-003; ER12-1400-004; ER10-276-004.

Applicants: BP Energy Company, Flat Ridge Wind Energy, LLC, Flat Ridge 2 Wind Energy LLC, Rolling Thunder I Power Partners, LLC.

Description: Updated Market Power Analysis for Southwest Power Pool Region of BP Energy Company, et al. under ER10-1790, et al.

Filed Date: 12/15/15.

Accession Number: 20151215-5242.

Comments Due: 5 p.m. ET 2/12/16.

Docket Numbers: ER15-1345-003.

Applicants: Midcontinent Independent System Operator, Inc.

Description: Compliance filing: 2015-12-15_SMEPA Compliance 2nd Amendment to be effective 6/1/2015.

Filed Date: 12/16/15.

Accession Number: 20151216-5043.

Comments Due: 5 p.m. ET 1/6/16.

Docket Numbers: ER15-2019-001

Applicants: Wisconsin Electric Power Company.

Description: Market-Based Triennial Review Filing: Wisconsin Electric Amended Triennial MBR Filing in ER15-2019-001 to be effective 8/25/2015.

Filed Date: 12/15/15.

Accession Number: 20151215-5230.

Comments Due: 5 p.m. ET 1/5/16.

Docket Numbers: ER16-534-000.

Applicants: Midcontinent Independent System Operator, Inc.

Description: Section 205(d) Rate Filing: 2015-12-15_Coordinated Transaction Scheduling Filing to be effective 3/1/2017.

Filed Date: 12/15/15.

Accession Number: 20151215-5234.

Comments Due: 5 p.m. ET 1/5/16.

Docket Numbers: ER16-535-000.

Applicants: PJM Interconnection, L.L.C.

Description: Section 205(d) Rate Filing: PJM Revisions to OATT, OA and MISO-PJM JOA re Coordinated Transaction Scheduling to be effective 3/1/2017.

Filed Date: 12/15/15.

Accession Number: 20151215-5236.

Comments Due: 5 p.m. ET 1/5/16.

Docket Numbers: ER16-536-000.

Applicants: PJM Interconnection, L.L.C.

Description: Section 205(d) Rate Filing: PJM Revisions to OATT, OA and MISO-PJM JOA re Coordinated Transaction Scheduling to be effective 3/1/2017.

Filed Date: 12/15/15.

Accession Number: 20151215-5237.

Comments Due: 5 p.m. ET 1/5/16.

Docket Numbers: ER16-537-000.

Applicants: Wisconsin Electric Power Company.

Description: Tariff Cancellation: Wisconsin Electric Cancellation of Pending Tariff Record in ER15-2019-000 to be effective 8/25/2015.

Filed Date: 12/15/15.

Accession Number: 20151215-5238.

Comments Due: 5 p.m. ET 1/5/16.

Docket Numbers: ER16-538-000.

Applicants: ISO New England Inc., New England Power Pool Participants Committee.

Description: Section 205(d) Rate Filing: Removal of Requirement to Publish De-List Bid Pricing Information to be effective 2/14/2016.

Filed Date: 12/16/15.

Accession Number: 20151216-5028.

Comments Due: 5 p.m. ET 1/6/16.

Take notice that the Commission received the following qualifying facility filings:

Docket Numbers: QF16-245-000.

Applicants: Graphic Packaging International Inc.

Description: Form 556 of Graphic Packaging International Inc. [West Monroe].

Filed Date: 12/15/15.

Accession Number: 20151215-5240.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2015.
Nathaniel J. Davis, Sr.,
Deputy Secretary.

[FR Doc. 2015-32122 Filed 12-21-15; 8:45 am]

BILLING CODE 6717-01-P